DEPARTMENT OF DEFENSE

Office of the Secretary

[Docket ID: DOD-2010-OS-0051]

Privacy Act of 1974; Systems of Records

AGENCY: Defense Logistics Agency, DoD.

ACTION: Notice to amend a system of records.

SUMMARY: The Defense Logistics Agency proposes to amend a system of records notice in its existing inventory of records systems subject to the Privacy Act of 1974, (5 U.S.C. 552a), as amended.

DATES: This proposed action will be effective without further notice on May 20, 2010 unless comments are received which result in a contrary determination.

ADDRESSES: You may submit comments, identified by dock number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is of make these submissions available for public viewing on the Internet at http://www.regulations.gov as they are received without change, including any personal identifiers or contact information.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the Chief Privacy and FOIA Officer, Headquarters Defense Logistics Agency, ATTN: DGA, 8725 John J. Kingman Road, Suite 1644, Fort Belvoir, VA 22060-6221.

The specific changes to the record system being amended are set forth below followed by the notice, as amended, published in its entirety. The proposed amendment is not within the purview of subsection (r) of the Privacy Act of 1974 (5 U.S.C. 552a), as amended, which requires the submission of new or altered systems reports.

Dated: April 14, 2010.
Mitchell S. Bryman,
Alternate OSD Federal Register Liaison Officer, Department of Defense.

S690.10 DLSC

SYSTEM NAME:

Individual Vehicle Operators File (September 21, 1999; 64 FR 51110).

CHANGES:

SYSTEM IDENTIFIER:

Delete entry and replace with “S523.25.”

SYSTEM NAME:

Delete entry and replace with “DLA Vehicle/Equipment Operator Files.”

* * * * *

CATEGORIES OF RECORDS IN THE SYSTEM:

Delete entry and replace with “File contains name, Social Security Number, date of birth, address, State and number of currently valid license; list of arrests or summonses for violation of motor vehicle laws (excluding parking violations) and convictions, if any; suspensions or revocations of his/her State license or identification card within the past five years and any motor vehicle accidents within the past five years, training and performance record, and other related papers.”

AUTHORITY FOR MAINTENANCE OF THE SYSTEM:

Delete entry and replace with “23 U.S.C. Chapter 4, Highway Safety; DoD Instruction 6055.4, DoD Traffic Safety Program; DoD Directive 5134.01, Under Secretary of Defense for Acquisition, Technology, and Logistics; and E.O. 9397 (SSN), as amended.”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records may specifically be disclosed outside the DoD as a routine use pursuant to 5 U.S.C. 552a(b)(3) as follows:

The DoD “Blanket Routine Uses” apply to this system of records.”

* * * * *

RETRIEVABILITY:

Delete entry and replace with “Retrieved by name or Social Security Number (SSN).”

* * * * *

RETENTION AND DISPOSAL:

Delete entry and replace with “Records are destroyed 3 years after separation of employee or 3 years after rescission of authorization to operate Government-owned vehicles, whichever is sooner.”

SYSTEM MANAGER(S) AND ADDRESS:

Delete entry and replace with “Commanders of the Defense Logistics Agency Primary Level Field Activities. Official mailing addresses are published as an appendix to DLA's compilation of systems of records notices.”

NOTIFICATION PROCEDURE:

Delete entry and replace with “Individuals seeking to determine whether information about themselves is contained in this system should address written inquiries to the Privacy Office, Headquarters, Defense Logistics Agency, ATTN: DGA, 8725 John J. Kingman Road, Suite 1644, Fort Belvoir, VA 22060-6221.

Inquiry should contain the individual's full name, Social Security Number (SSN), and mailing address.”

RECORD ACCESS PROCEDURES:

Delete entry and replace with “Individuals seeking access to information about themselves contained in this system should address written inquiries to the Privacy Office, Headquarters, Defense Logistics Agency, ATTN: DGA, 8725 John J. Kingman Road, Suite 1644, Fort Belvoir, VA 22060-6221.

Inquiry should contain the individual's full name, Social Security Number (SSN), and mailing address.”

CONTESTING RECORD PROCEDURES:

Delete entry and replace with “The DLA rules for accessing records, for contesting contents, and appealing initial agency determinations are contained in 32 CFR part 323, or may be obtained from the Privacy Office, Headquarters, Defense Logistics Agency, ATTN: DGA, 8725 John J. Kingman Road, Suite 1644, Fort Belvoir, VA 22060-6221.”

* * * * *

S523.25

SYSTEM NAME:

DLA Vehicle/Equipment Operator Files.

SYSTEM LOCATION:

Commanders of the Defense Logistics Agency (DLA) Primary Level Field Activities (PLFAs) which issue vehicle operator's Identification Cards. Official mailing addresses are published as an appendix to DLA's compilation of systems of records notices.

CATEGORIES OF INDIVIDUALS COVERED BY THE SYSTEM:

All persons for whom Defense Logistics Agency has issued permits to operate motor vehicles or equipment.

CATEGORIES OF RECORDS IN THE SYSTEM:

File contains name, Social Security Number, date of birth, address, State and number of currently valid license; list of arrests or summonses for violation of motor vehicle laws (excluding parking violations) and convictions, if any; suspensions or revocations of his/her State license or identification card within the past five years and any motor vehicle accidents within the past five years, training and performance record, and other related papers.

AUTHORITY FOR MAINTENANCE OF THE SYSTEM:

23 U.S.C. Chapter 4, Highway Safety; DoD Instruction 6055.4, DoD Traffic Safety Program; DoD Directive 5134.01, Under Secretary of Defense for Acquisition, Technology, and Logistics; and E.O. 9397 (SSN), as amended.

PURPOSE(S):

Records are maintained and used by DLA officials to determine an individual's qualifications and fitness to operate government vehicles and/or equipment.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD “Blanket Routine Uses” apply to this system of records.

POLICIES AND PRACTICES FOR STORING, RETRIEVING, ACCESSING, RETAINING, AND DISPOSING OF RECORDS IN THE SYSTEM:

STORAGE:

Records maybe maintained on paper and electronic storage media.

RETRIEVABILITY:

Retrieved by name or Social Security Number (SSN).

SAFEGUARDS:

Records are maintained in areas accessible only to DLA personnel who must use the records to perform their duties. The computer files are password protected with access restricted to authorized users. Records are secured in locked or guarded buildings, locked offices, or locked cabinets during non duty hours.

RETENTION AND DISPOSAL:

Records are destroyed 3 years after separation of employee or 3 years after rescission of authorization to operate Government-owned vehicles, whichever is sooner.

SYSTEM MANAGER(S) AND ADDRESS:

Commanders of the Defense Logistics Agency Primary Level Field Activities. Official mailing addresses are published as an appendix to DLA's compilation of systems of records notices.

NOTIFICATION PROCEDURE:

Individuals seeking to determine whether information about themselves is contained in this system should address written inquiries to the Privacy Office, Headquarters, Defense Logistics Agency, ATTN: DGA, 8725 John J. Kingman Road, Suite 1644, Fort Belvoir, VA 22060-6221.

Inquiry should contain the individual's full name, Social Security Number (SSN), and mailing address.

RECORD ACCESS PROCEDURES:

Individuals seeking access to information about themselves contained in this system should address written inquiries to the Privacy Office, Headquarters, Defense Logistics Agency, ATTN: DGA, 8725 John J. Kingman Road, Suite 1644, Fort Belvoir, VA 22060-6221.

Inquiry should contain the individual's full name, Social Security Number (SSN), and mailing address.

CONTESTING RECORD PROCEDURES:

The DLA rules for accessing records, for contesting contents, and appealing initial agency determinations are contained in 32 CFR part 323, or may be obtained from the Privacy Office, Headquarters, Defense Logistics Agency, ATTN: DGA, 8725 John J. Kingman Road, Suite 1644, Fort Belvoir, VA 22060-6221.

RECORD SOURCE CATEGORIES:

Record subject, court records, supervisor notes/comments and related documents.

EXEMPTIONS CLAIMED FOR THE SYSTEM:

None.

[FR Doc. 2010-9000 Filed 4-19-10; 8:45 am]

BILLING CODE 5001-06-P